DEPARTMENT OF HEALTH AND HUMAN SERVICES

Health Resources and Services Administration

Maternal and Child Health Federal Set-Aside Program; Special Projects of Regional and National Significance; Community-Based Abstinence Education Project Grants

AGENCY: Health Resources and Services Administration, HHS.

ACTION: Notice of availability of funds.

SUMMARY: The Health Resources and Services Administration (HRSA) announces that approximately $17 million in fiscal year (FY) 2001 funds is available for making competitive grants to implement strategies to provide abstinence education to adolescents, ages 12 through 18, in communities across the Nation. Eligibility is open to public and private entities which clearly and consistently focus on a designated definition of “abstinence education” and agree not to provide a participating adolescent any other education regarding sexual conduct in the same setting. All awards will be made under the program authority of section 501(a)(2) of the Social Security Act, the Maternal and Child Health (MCH) Federal Set-Aside Program (42 U.S.C. 701(a)(2)). These grants (CFDA #93.110NO) will be administered by the Maternal and Child Health Bureau (MCHB), HRSA. Approximately $1.5 million will be available for up to 15-20 one-year planning grants, with awards ranging from $75,000 to $100,000, and approximately $15.5 million will be available for up to 25-50 three-year implementation grants, with annual awards ranging from $250,000 to $1 million, depending on continued availability of funds. Projects may be located in any State, the District of Columbia, and United States territories, commonwealths, and possessions. Funds for Community-Based Abstinence Education project grants are appropriated by Public Law 106-246.

This announcement will appear in the Federal Register and on the HRSA Home Page at: http://www.hrsa.dhhs.gov/. Federal Register notices are found by following instructions at: http://www.access.gpo.gov/su_docs/aces/aces140.html.

DATES: Entities which intend to submit an application for this grant program are expected to notify MCHB's Division of State and Community Health by December 1, 2000. The deadline for receipt of applications is February 2, 2001. Applications will be considered “on time” if they are either received on or before the deadline date or postmarked on or before the deadline date. The projected award date is April 27, 2001.

ADDRESSES: To receive a complete application kit, applicants may telephone the HRSA Grants Application Center at 1-877-477-2123 (1-877-HRSA-123) beginning November 15, 2000, or register on-line at: http://www.hrsa.dhhs.gov/, or by accessing http://www.hrsa.gov/g_order3.htm directly. This program uses the standard Form PHS 5161-1 (rev. 7/00) for applications (approved under OMB No. 0920-0428). Applicants must use the appropriate Catalog of Federal Domestic Assistance (CFDA) number when requesting application materials. The CFDA is a Government wide compendium of enumerated Federal programs, projects, services, and activities which provide assistance. The CFDA Number for the Community-Based Abstinence Education project grant program is: #93.110NO. All applications should be mailed or delivered to: Grants Management Officer (MCHB), HRSA Grants Application Center, 1815 N. Fort Meyer Drive, Suite 300, Arlington, Virginia 22209, telephone: 1877-HRSA-123 (477-2123), E-mail: hrsagac@hrsa.gov.

This application guidance and the required form for the Community-Based Abstinence Education project grant program may be downloaded in either WordPerfect 6.1 or Adobe Acrobat format (.pdf) from the MCHB HomePage at http://www.mchb.hrsa.gov/. Please contact Joni Johns at 301-443-2088 or jjohns@hrsa.gov/, if you need technical assistance in accessing the MCHB Home Page via the Internet.

Letter of Intent: To assist MCHB in planning for an orderly review of applications, entities which intend to submit an application for this grant program are invited to notify MCHB's Division of State and Community Health in one of three ways: telephone, 301-443-2204; fax, 301-443-9354; or mail, MCHB, HRSA; Division of State and Community Health; Parklawn Building, Room 18-31; 5600 Fishers Lane; Rockville, MD 20857.

FOR FURTHER INFORMATION CONTACT: Michele Lawler, 301-443-2204 (for questions specific to project activities of the program, program objectives, or the Letter of Intent described above); and Dorothy Kelley, 301-443-3288 (for grants policy, budgetary, and business questions).

SUPPLEMENTARY INFORMATION:

Program Background and Objectives

Title II of the Departments of Labor, Health and Human Services, and Education, and Related Agencies Appropriations Act, 2000 (Public Law 106-113) included an advance appropriation for FY 2001 of $20 million for the Adolescent Family Life (AFL) program, authorized under Title XX of the Public Health Service Act, to support prevention-oriented abstinence education project grants.

Title II, chapter 4, of Public Law 106-246, the “Military Construction Appropriations Act of 2001,” rescinded this advance $20 million appropriation for the AFL program. Instead, it appropriated $20 million for the MCH Block Grant's Federal Set-Aside Program—which supports Special Projects of Regional and National Significance (SPRANS)—to support community-based Abstinence Education project grants for FY 2001. The law provides that funds be used:

* * * for making competitive grants to provide abstinence education (as defined in section 510(b)(2) of such Act) to adolescents * * * Provided further, That such grants shall be made only to public and private entities which agree that, with respect to an adolescent to whom the entities provide abstinence education under such grant, the entities will not provide to that adolescent any other education regarding sexual conduct, except that, in the case of an entity expressly required by law to provide health information or services the adolescent shall not be precluded from seeking health information or services from the entity in a different setting than the setting in which the abstinence education was provided * * *.”

The pending FY 2001 Labor-HHS-Education Appropriations Act (H. R. 4577) includes an advance appropriation, under SPRANS, of $30 million for the Community-Based Abstinence Education grant program for FY 2002. The House report accompanying the bill (H. Rpt. 106-645) elaborates upon rules for projects funded under the program:

The Committee supports abstinence education for adolescents, ages 12 through 18, and supports expansion of efforts to present an abstinence-only message to America's youth. The preliminary results from these program[s] in states such as Oklahoma are promising. It is important, however, to ensure that America's youth do not receive mixed message[s], or medically inaccurate information. The legislation directs that abstinence messages given to a group of youth[s] by a grantee must not be diluted by any instructor or materials from the same grantee. Nothing in the legislation is intended to prevent these adolescents from seeking health information or services. Nothing shall preclude entities who are teaching these abstinence-only classes and who have a public health mandate from discussing other forms of sexual conduct or providing services, as long as this is conducted in a different setting than where and when the abstinence-only course is being conducted. In allocating grant funds, priority should be given to those organizations which have a strong record of support of abstinence education as defined in sections (a) through (h) of title 5, section 510(b)(2) of the Social Security Act.

In the laws cited above, Congress also earmarked a portion of the total amounts appropriated to support comprehensive evaluations, including longitudinal evaluations, of abstinence education. These evaluation activities are beyond the purview of this announcement.

Abstinence-only education programs are one way to educate young people and create an environment within communities that supports teen decisions to postpone sexual activity. In 1999, 49.9 percent of high school students reported having had sexual intercourse and 36.3 percent reported having had sexual intercourse within the previous three months. (CDC, MMWR, June 9, 2000). There are some indications that early sexual intercourse by adolescents can have negative effects on social and psychological development. Research shows that teen pregnancy is linked to a list of risk factors similar to those for other problem behaviors of adolescence, such as alcohol and drug use, violence, delinquency, and school drop-out. Teen parenting is associated with the lack of high school completion and the initiation of a cycle of poverty for mothers. The Department of Health and Human Services established the reduction of teen pregnancies as a priority goal in its 1997 strategic plan. Overall, the teen birth rate declined by 18 percent from 1991 to 1998, with all States reporting a decline in the birth rate of teens 15-19 years of age between 1991 and 1998. (CDC, NCHS, Vital Statistics Reports, March 28, 2000).

In addition to the rules Congress has established for the program, SPRANS Community-Based Abstinence Education project grants are subject to regulations, at 42 CFR Part 51a, that are applicable to all SPRANS projects. The Federal SPRANS authority was enacted as part of the MCH Block Grant under Section 501(a)(2) of the Social Security Act, by the Omnibus Budget Reconciliation Act (OBRA) of 1981 (Public Law 97-35). In general, the set-aside in section 502(a) permits the Secretary to retain 15 percent of the total MCH Block Grant appropriation each fiscal year to support discretionary grants in certain categories: MCH Research; MCH Training; Genetic Disease Testing, Counseling and Information Dissemination; Newborn Screening; Hemophilia Diagnostic and Treatment Centers; and Other Special Projects to Improve Maternal and Child Health. No percentage of the available funds is specified by law for any particular category of SPRANS grant. H. R. 4577 adds Community-Based Abstinence Education as a SPRANS project category. However, the funds made available for Abstinence Education grants under H. R. 4577 are specified or “earmarked” only for this purpose; they will not be counted toward compliance with the statutorily-determined 15 percent SPRANS set-aside amount.

The projects funded under this announcement are also intended to complement the existing categorical program of Grants to States for Abstinence Education, authorized under section 510(b)(2) of Title V by Public Law 104-193, the “Personal Responsibility and Work Opportunity Act of 1996.” The purpose of that block grant program is to enable States to support abstinence education, and, at the option of the State, where appropriate, mentoring, counseling, and adult supervision to promote abstinence from sexual activity with a focus on those groups most likely to bear children out-of-wedlock. The law provides for a mandatory annual appropriation of $50 million for FY 1998 through FY 2002. Grants are awarded to each State based on a statutory formula determined by the proportion that the number of low income children in the State bears to the total number of low income children in all States. Grant applications are accepted only from the State health agency responsible for the administration (or supervision of the administration) of the Title V MCH Block Grant, with funds disbursed at the discretion of the Governor unless otherwise established under State law or judicial precedent. There is a required match of three non-Federal dollars for every four Federal dollars awarded. If a State chooses not to apply for a grant, the State's allocation is returned to the Treasury and is not available for redistribution among remaining States.

Consistent with other SPRANS grant programs, the Bureau encourages coordination and collaboration between the State agencies administering a Section 510 Abstinence Education grant and community-based organizations applying for a SPRANS Community-Based Abstinence Education project grant. Such coordination and collaboration is considered beneficial in promoting complementary efforts between State and community agencies and advancing maternal and child health.

Projects funded through the SPRANS Community-Based Abstinence Education grant program share a common definition of “abstinence education” with the Section 510-funded State programs. For purposes of both programs (as well as abstinence education programs funded under the Title XX AFL program), the term “abstinence education” means “an educational or motivational program which—

(A) Has as its exclusive purpose, teaching the social, psychological, and health gains to be realized by abstaining from sexual activity;

(B) Teaches abstinence from sexual activity outside marriage as the expected standard for all school age children;

(C) Teaches that abstinence from sexual activity is the only certain way to avoid out-of-wedlock pregnancy, sexually transmitted diseases, and other associated health problems;

(D) Teaches that a mutually faithful monogamous relationship in context of marriage is the expected standard of human sexual activity;

(E) Teaches that sexual activity outside of the context of marriage is likely to have harmful psychological and physical effects;

(F) Teaches that bearing children out-of-wedlock is likely to have harmful consequences for the child, the child's parents, and society;

(G) Teaches young people how to reject sexual advances and how alcohol and drug use increases vulnerability to sexual advances; and

(H) Teaches the importance of attaining self-sufficiency before engaging in sexual activity.”

Curricula developed or selected for implementation in the SPRANS Community-Based Abstinence Education grants program are expected to be responsive to the eight elements of the Section 510 abstinence education definition and may not be inconsistent with any aspect of that definition.

Authorization

Section 501(a)(2) of the Social Security Act, 42 U.S.C. 701(a)(2), and Public Law 106-246.

Purpose

The purpose of the SPRANS Community-Based Abstinence Education grant program is to provide support to public and private entities for the development and implementation of abstinence education programs for adolescents, ages 12 through 18, in communities across the country. This program funds the planning and implementation of community-based, abstinence-only educational interventions designed to reduce the rate of births to teenagers, the proportion of adolescents who have engaged in sexual intercourse, and the proportion of teenagers who have engaged in risk behaviors, such as tobacco, alcohol, and drug use.

Specific objectives for the SPRANS Community-Based Abstinence Education planning and implementation grants are to:

• Support programmatic efforts that foster the development of abstinence-only education for adolescents, ages 12 through 18, in communities across the country.

• Develop and implement abstinence-only programs that target the prevention of teenage pregnancy and premature sexual activity.

• Develop abstinence education approaches that are culturally sensitive and age-appropriate to meet the needs of a diverse audience of adolescents, ages 12 through 18.

• Implement curriculum-based community education programs that promote abstinence decisions to adolescents, ages 12 through 18.

The SPRANS Community-Based Abstinence Education grant program project activities are expected to complement and enhance State grantees' required efforts to achieve performance goals and objectives established for the existing Title V “Section 510” projects in accordance with the requirements of the “Government Performance and Results Act (GPRA) of 1993” (Pub. L. 103-62). This Act requires the establishment of measurable goals for Federal programs that can be reported as part of the budgetary process, thus linking funding decisions with performance. SPRANS Community-Based Abstinence Education program grantees will be required to report annually on the four national performance measures presented in Figure 1.

Figure 1.—SPRANS Community-Based Abstinence Education Grant Program
[National Performance Measures]
#1 | Proportion of program participants who successfully complete or remain enrolled in an abstinence-only education program.
#2 | Proportion of program participants who have engaged in sexual intercourse.
#3 | Proportion of program participants who report a reduction in risk behaviors, such as tobacco, alcohol, and drug use.
#4 | The rate of births to female program participants.

In addition, each SPRANS Abstinence Education grantee will be required to submit to MCHB an annual report on its activities, including a narrative discussion of the project's progress toward achieving the goals, objectives and performance measures, an unduplicated count of clients served, total number of client encounters, and a list of the communities served.

Applicants for SPRANS Community-Based Abstinence Education implementation grants must submit three-year targets for each national performance measure. Applicants for the planning grants are not required to submit performance measure targets for the one-year planning period. Further information on performance measurement for this program and instructions regarding performance measurement-related application requirements are included in the Program Guidance.

OMB approval for the data reporting will be sought, as required under the Paperwork Reduction Act of 1995.

Curricula developed or selected for implementation in the SPRANS Community-Based Abstinence Education grants program must address all eight elements of the Section 510 abstinence education definition and may not be inconsistent with any element of that definition.

Applicants may choose, but are not required, to have their selected curricula reviewed by the State Agency Director(s) of the State or States that will be affected by the proposed project. MCHB encourages consultation and collaboration between grantees and the State agencies throughout the life of the project.

Applicants should be aware that grantees may not teach or promote religion in their SPRANS Community-Based Abstinence Education projects. Non-profit organizations and other community-based organizations, including faith-based organizations, are eligible to apply (see Eligibility, below), but must provide assurance that they will respect this requirement. Each grant project must be accessible to the public generally, not just to those of a particular religious affiliation. Background information on this issue is available via the Internet at: www.mchb.hrsa.gov.

In addition, this program is subject to Title IX of the Education Amendments of 1972 (20 U.S.C. §§ 1861-62), which prohibits discrimination based on sex in programs which receive Federal financial assistance.

Eligibility

Under SPRANS project grant regulations at 42 CFR Part 51a.3, any public or private entity, including an Indian tribe or tribal organization (as defined at 25 U.S.C. 450(b)), is eligible to apply for grants covered by this announcement. Projects must clearly and consistently focus on the designated definition of “abstinence education” and applicants must agree not to provide a participating adolescent any other education regarding sexual conduct in the same setting.

Applicants proposing to provide abstinence-only education and who have a public health mandate, such as State or local health departments, community health centers or other community-based clinics, must provide assurance that any discussion of other forms of sexual conduct or provision of services is conducted in a setting different from where and when the abstinence-only course is being conducted.

Funding Level/Project Period

Two types of grants will be awarded in FY 2001 under this program—one-year planning grants, with awards ranging from $50,000 to $75,000; and three-year implementation grants, with awards ranging from $250,000 to $1,000,000 per year. Planning grant funding will support program planning, training and community assessment activities. Implementation grant funding will support the development and implementation of three-year projects.

Approximately $1.5 million will be awarded to support 15 to 20 planning grants; about $15.5 million will be awarded to support 25 to 50 implementation grants. Some adjustment in funding amounts between categories may be made, depending on the number and quality of applications received.

The project period consists of one or more budget periods, each generally of one year duration. Continuation of any project from one budget period to the next is subject to satisfactory performance, availability of funds, and program priorities.

Funding Priorities

Priority for funding will be given to entities in local communities which demonstrate a strong record of support for abstinence education among adolescents. An approved proposal that reflects this priority will receive a 5-point favorable adjustment in the priority score, before funding decisions are made.

Review Criteria

The following are generic review criteria applicable to all MCHB programs:

(1) The extent to which the project will contribute to the advancement of maternal and child health and/or improvement of the health of children with special health care needs;

(2) The extent to which the project is responsive to policy concerns applicable to MCH grants and to program objectives, requirements, priorities and/or review criteria for specific project categories, as published in program announcements or guidance materials;

(3) The extent to which the estimated cost to the Government of the project is reasonable, considering the anticipated results;

(4) The extent to which the project personnel are well qualified by training and/or experience for their roles in the project and the applicant organization has adequate facilities and personnel; and

(5) The extent to which, insofar as practicable, the proposed activities, if well executed, are capable of attaining project objectives.

The final review criteria used to review and rank applications for the SPRANS Community-Based Abstinence Education grant program are included in the application kit. Applicants should pay strict attention to addressing these criteria, as they are the basis upon which their applications will be judged.

Public Health System Reporting Requirements

This program is subject to the Public Health System Reporting Requirements (approved under OMB No. 0937-0195). Under these requirements, the community-based nongovernmental applicant must prepare and submit a Public Health System Impact Statement (PHSIS). The PHSIS is intended to provide information to State and local health officials to keep them apprised of proposed health services grant applications submitted by community-based nongovernmental organizations within their jurisdictions.

Community-based nongovernmental applicants are required to submit the following information to the head of the appropriate State and local health agencies in the area(s) to be impacted no later than the Federal application receipt due date:

(a) A copy of the face page of the application (SF 525).

(b) A summary of the project (PHSIS), not to exceed one page, which provides:

(1) A description of the population to be served.

(2) A summary of the services to be provided.

(3) A description of the coordination planned with the appropriate State and local health agencies.

Executive Order 12372

The MCH Federal Set-Aside program has been determined to be a program which is not subject to the provisions of Executive Order 12372 concerning intergovernmental review of Federal programs.

Dated: November 13, 2000.
Claude Earl Fox,
Administrator.

[FR Doc. 00-29425 Filed 11-16-00; 8:45 am]

BILLING CODE 4160-15-P